NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 12, 2006 from 10 a.m. to 11 a.m.

ADDRESSES: The U.S. Capitol Building, Room H-137, Washington, DC.

FOR FURTHER INFORMATION CONTACT: Richard H. Hunt, Director; Center for Legislative Archives; (202) 357-5350.

SUPPLEMENTARY INFORMATION:

Agenda

Advisory Committee on the Records of Congress Fourth Report

May Meeting of the Association of Centers for the Study of Congress

Update on the Center for Legislative Archives

Other current issues and new business

The meeting is open to the public.

This notice is published less than 15 calendar days before the meeting because of scheduling difficulties.

Dated: June 6, 2006.
Mary Ann Hadyka,
Committee Management Officer.

[FR Doc. E6-9149 Filed 6-9-06; 8:45 am]

BILLING CODE 7515-01-P